Title 3—

The President

Proclamation 8403 of August 26, 2009

Death of Senator Edward M. Kennedy

By the President of the United States of America

A Proclamation

Senator Edward M. Kennedy was not only one of the greatest senators of our time, but one of the most accomplished Americans ever to serve our democracy. Over the past half-century, nearly every major piece of legislation that has advanced the civil rights, health, and economic well-being of the American people bore his name and resulted from his efforts. With his passing, an important chapter in our American story has come to an end.

As a mark of respect for the memory of Senator Edward M. Kennedy, I hereby order, by the authority vested in me by the Constitution and laws of the United States of America, that the flag of the United States shall be flown at half-staff at the White House and upon all public buildings and grounds, at all military posts and naval stations, and on all naval vessels of the Federal Government in the District of Columbia and throughout the United States and its Territories and possessions until sunset on August 30, 2009. I also direct that the flag of the United States shall be flown at half-staff until sunset on the day of his interment. I further direct that the flag shall be flown at half-staff for the same periods at all United States embassies, legations, consular offices, and other facilities abroad, including all military facilities and naval vessels and stations.

IN WITNESS WHEREOF, I have hereunto set my hand this twenty-sixth day of August, in the year of our Lord two thousand nine, and of the Independence of the United States of America the two hundred and thirty-fourth.

[FR Doc. E9-21029

Filed 8-27-09; 12:00 pm]

Billing code 3195-W9-P